DEPARTMENT OF TRANSPORTATION

Federal Highway Administration

Environmental Impact Statement: Grand Forks County, North Dakota and Polk County, Minnesota

AGENCY: Federal Highway Administration (FHWA), North Dakota Department of Transportation (NDDOT), DOT.

ACTION: Rescind Notice of Intent.

SUMMARY: The FHWA is issuing this revised notice to advise the public that FHWA and NDDOT will not prepare an Environmental Impact Statement (EIS) for a proposed highway project in Grand Forks County, North Dakota and Polk County, Minnesota. A Notice of Intent to prepare an EIS was published in the Federal Register on May 17, 2013.

FOR FURTHER INFORMATION CONTACT: Sheri G. Lares, Environmental Program Manager and Planning Specialist, Federal Highway Administration, North Dakota Division Office, 4503 Coleman Street, Suite 205, Bismarck, North Dakota 58503, Telephone: (701) 221-9464. Terry Udland, Bridge Division, North Dakota Department of Transportation, 608 E. Boulevard Avenue, Bismarck, North Dakota 58505-0700, Telephone: (701) 328-1969.

SUPPLEMENTARY INFORMATION: The FHWA, in cooperation with the North Dakota and Minnesota Departments of Transportation, had proposed to prepare an EIS on a proposal to rehabilitate or replace the historic Sorlie Bridge over the Red River between Grand Forks, ND and East Grand Forks, MN. After further analysis of the bridge condition, it was determined that rehabilitation alternatives and replacement alternatives to be evaluated in the EIS for the structure were not warranted. Preliminary alternatives that will be analyzed through a Categorical Exclusion include various degrees of maintenance of the existing bridge.

(Catalog of Federal Domestic Assistance Program Number 20.205, Highway Research, Planning, and Construction. The regulations implementing Executive Order 12372 regarding intergovernmental consultation on Federal programs and activities apply to this program.)

Issued on: November 6, 2014.
Wendall L. Meyer,
Division Administrator, Federal Highway Administration, North Dakota Division Office.

[FR Doc. 2014-27104 Filed 11-14-14; 8:45 am]

BILLING CODE 4910-22-P